DEPARTMENT OF ENERGY

Federal Energy Regulatory Commission

[Project No. 2179-042]

Merced Irrigation District;Notice of Dispute Resolution Panel Meeting and Technical Conference

October 28, 2009.

On October 16, 2009, Commission staff, in response to the filing of notices of study dispute by the U.S. Department of Interior (Fish and Wildlife Service), U.S. Department of Commerce (National Marine Fisheries Service), and California State Water Resources Control Board on October 5, 2009, convened a single three-person Dispute Resolution Panels pursuant to 18 CFR 5.14(d).

The Panel will hold a technical conference at the time and place noted below. The session will address study disputes regarding 16 separate studies that focus on water and aquatic resource related issues. The disputes primarily address the Commission's determination on the geographic scope of the proposed project's direct, indirect, and cumulative effects and the level of study being required for assessing project related effects on anadromous salmonids and their habitats. The focus of the technical session is for the disputing agencies, applicants, and Commission to provide the Panel with additional information necessary to evaluate the disputed studies. All local, state, and federal agencies, Indian tribes, and other interested parties are invited to attend the meeting as observers. The Panel may also request information or clarification on written submissions as necessary to understand the matters in dispute. The Panel will limit all input that it receives to the specific studies or information in dispute and will focus on the applicability of such studies or information to the study criteria stipulated in 18 CFR 5.9(b). If the number of participants wishing to speak creates time constraints, the Panel may, at their discretion, limit the speaking time for each participant.

If you have any questions, please contact Aaron Liberty at (202) 502-6862.

Technical Conference

Date: Tuesday, November 17, 2009.

Time: 8:30 a.m.-5 p.m. (PST).

Place: John E. Moss Federal Building, First Floor (Stanford Room), 650 Capitol Mall, First Floor, Sacramento, CA 95814-4708.

Phone: 916-930-3600.

Kimberly D. Bose,
Secretary.

[FR Doc. E9-26475 Filed 11-3-09; 8:45 am]

BILLING CODE 6717-01-P